DEPARTMENT OF LABOR

Office of Disability Employment Policy

Solicitation for Grant Applications (SGA) 03-15; Ending Chronic Homelessness Through Employment and Housing

AGENCY: Office of Disability Employment Policy, U.S. Department of Labor; and Office of Special Needs, U.S. Department of Housing and Urban Development.

ACTION: Notice of Correction.

SUMMARY: In the FR Vol. 68, No. 138, Friday, July 18, 2003 the competition was announced and the SGA printed in its entirety. Based on the emergency caused by the power outages in the Northeast quadrant of the United States, the preparation and submission of proposals have been adversely affected. Due to this interruption, the deadline for submission of applications is extended. All applications must now be submitted to the U.S. Department of Labor, Procurement Services Center, Room N-5416, 200 Constitution Avenue, NW., Washington, DC 20210, not later than 4:45 p.m. EST, August 25, 2003.

FOR FURTHER INFORMATION CONTACT: Cassandra Willis, Department of Labor, Telephone (202) 693-4570.

Signed at Washington, DC this 19 day of August, 2003.
Daniel P. Murphy,
Director, Procurement Services Center.

[FR Doc. 03-21614 Filed 8-19-03; 3:28 pm]

BILLING CODE 4510-CX-M